DEPARTMENT OF THE INTERIOR

Bureau of Ocean Energy Management

[Docket No. BOEM-2011-0088]

Commercial Wind Lease Issuance and Site Assessment Activities on the Atlantic Outer Continental Shelf (OCS) Offshore New Jersey, Delaware, Maryland, and Virginia

AGENCY: Bureau of Ocean Energy Management (BOEM), Interior.

ACTION: Notice of the Availability (NOA) of an Environmental Assessment (EA) and a Finding of No Significant Impact.

SUMMARY: BOEM has prepared an EA considering the environmental impacts of issuing renewable energy leases and authorizing site characterization activities (geophysical, geotechnical, archaeological, and biological surveys needed to develop specific project proposals on those leases) in identified Wind Energy Areas (WEAs) on the OCS offshore New Jersey, Delaware, Maryland, and Virginia. This final EA also considers the reasonably foreseeable environmental impacts associated with the approval of site assessment activities (including the installation and operation of meteorological towers and buoys) on the leases that may be issued.

As a result of its analysis in the final EA, BOEM issued a Finding of No Significant Impact (FONSI). The FONSI concluded that the environmental impacts associated with the preferred alternative would not significantly impact the environment; therefore, the preparation of an environmental impact statement (EIS) is not required.

The purpose of this notice is to inform the public of the availability of the EA and FONSI, which can be accessed online at: http://www.boem.gov/Renewable-Energy-Program/Smart-from-the-Start/Index.aspx.

Authority: This NOA of an EA and FONSI is published pursuant to 43 CFR 46.305.

FOR FURTHER INFORMATION CONTACT: Michelle Morin, BOEM Office of Renewable Energy Programs, 381 Elden Street, HM 1328, Herndon, Virginia 20170-4817, (703) 787-1340 or michelle.morin@boem.gov.

SUPPLEMENTARY INFORMATION: On November 23, 2010, Secretary of the Interior Ken Salazar announced the “Smart from the Start” renewable energy initiative to accelerate the responsible development of renewable energy resources on the Atlantic OCS. One of the focuses of the initiative is the identification and refinement of areas on the OCS that appear to be suitable for renewable energy development (WEAs), within which BOEM will focus its leasing efforts. In consultation with other Federal agencies and BOEM's Intergovernmental Renewable Energy Task Forces, BOEM identified WEAs on the OCS offshore New Jersey, Delaware, Maryland, and Virginia.

On February 9, 2011, BOEM identified these WEAs in a Notice of Intent (NOI) to prepare an EA for Mid-Atlantic WEAs (76 FR 7226). The NOI requested public input to identify the important environmental issues associated with leasing and site assessment within the identified WEAs, and alternatives to be considered in the EA. BOEM considered these public comments in drafting the alternatives and assessing the reasonably foreseeable environmental impacts associated with each alternative. Comments received in response to the NOI can be viewed at http://www.regulations.gov, by searching for Docket ID BOEM-2010-0077.

On July 12, 2011, BOEM published in the Federal Register a NOA of a draft of the EA for Mid-Atlantic WEAs (76 FR 40925). Public comments on the draft EA were considered in the preparation of this final EA and in determining whether the proposed activities would lead to significant environmental impacts. Comments received in response to the NOA can be viewed at http://www.regulations.gov, by searching for Docket ID BOEM-2011-0053.

BOEM will use this EA to inform decisions to issue leases in the refined WEAs, and to subsequently approve site assessment plans (SAPs) on those leases. BOEM may issue one or more commercial wind energy leases in the WEAs. The competitive lease process is set forth at 30 CFR 585.210-585.225, and the noncompetitive process is set forth at 30 CFR 585.230-585.232 (as amended by a rulemaking effective as of June 15, 2011).

A commercial lease, whether issued through a competitive or non-competitive process, gives the lessee the exclusive right to subsequently seek BOEM approval for the development of the leasehold. The lease does not grant the lessee the right to construct any facilities; rather, the lease grants the right to use the leased area to develop its plans, which BOEM must approve before the lessee may proceed to the next stage of the process. See 30 CFR 585.600 and 585.601. In the event that a particular lease is issued, and the lessee subsequently submits a SAP, BOEM would then determine whether the EA adequately considers the environmental consequences of the activities proposed in the lessee's SAP. If BOEM determines that the analysis in the EA adequately considers these consequences, then no further analysis under the National Environmental Policy Act (NEPA) would be required before BOEM could approve a SAP. If, on the other hand, BOEM determines that the analysis in this EA is inadequate for that purpose, BOEM would prepare additional NEPA analysis before it could approve the SAP.

If a lessee is prepared to propose a wind energy generation facility on its lease, it would submit a construction and operations plan (COP). BOEM then would prepare a separate site- and project-specific NEPA analysis of the proposed project. This analysis would likely take the form of an EIS and would provide the public and Federal officials with comprehensive information regarding the reasonably foreseeable environmental impacts of the proposed project. In this NEPA analysis, BOEM would evaluate the potential environmental and socioeconomic consequences of the proposed project. This analysis would inform BOEM's decision to approve, approve with modification, or disapprove a lessee's COP pursuant to 30 CFR 585.628. This NEPA process also would provide additional opportunities for public involvement pursuant to NEPA and the White House Council on Environmental Quality's regulations at 40 CFR Parts 1500-1508.

Dated: January 20, 2012.
Walter D. Cruickshank,
Deputy Director, Bureau of Ocean Energy Management.

[FR Doc. 2012-2494 Filed 2-2-12; 8:45 am]

BILLING CODE 4310-VH-P